DEPARTMENT OF COMMERCE

International Trade Administration

[A-403-801; C-403-802]

Continuation of Antidumping Duty and Countervailing Duty Orders: Fresh and Chilled Atlantic Salmon From Norway

AGENCY: Import Administration, International Trade Administration, Department of Commerce.

ACTION: Notice of Continuation of Antidumping Duty and Countervailing Duty Orders: Fresh and Chilled Atlantic Salmon from Norway.

SUMMARY: On February 4, 2000 and February 7, 2000, respectively, the Department of Commerce (“the Department”), pursuant to sections 751(c) and 752 of the Tariff Act of 1930, as amended (“the Act”), determined that revocation of the antidumping duty ¹ and countervailing duty ² orders on fresh and chilled Atlantic salmon from Norway is likely to lead to continuation or recurrence of dumping and a countervailable subsidy. On March 1, 2000, the International Trade Commission (“the Commission”), pursuant to section 751(c) of the Act, determined that revocation of the antidumping duty and countervailing duty orders on fresh and chilled Atlantic salmon from Norway would be likely to lead to continuation or recurrence of material injury to an industry in the United States within a reasonably foreseeable time (65 FR 11082). Therefore, pursuant to 19 CFR 351.218(f)(4), the Department is publishing notice of the continuation of the antidumping duty and countervailing duty orders on fresh and chilled Atlantic salmon from Norway.

¹ See Final Results of Expedited Sunset Review: Fresh and Chilled Atlantic Salmon from Norway, 65 FR 5584 (February 4, 2000).

² See Final Results of Expedited Sunset Review: Fresh and Chilled Atlantic Salmon from Norway, 65 FR 5854 (February 7, 2000).

EFFECTIVE DATE: March 13, 2000.

FOR FURTHER INFORMATION CONTACT: Kathryn B. McCormick or Melissa G. Skinner, Office of Policy for Import Administration, International Trade Administration, U.S. Department of Commerce, 14th Street and Constitution Ave., NW, Washington, D.C. 20230; telephone: (202) 482-1930 or (202) 482-1560, respectively.

SUPPLEMENTARY INFORMATION

Background

On July 1, 1999, the Department initiated, and the Commission instituted, sunset reviews (64 FR 35588 and 64 FR 35680, respectively) of the antidumping duty and countervailing duty orders on fresh and chilled Atlantic salmon from Norway, pursuant to section 751(c) of the Act. As a result of its reviews, the Department found that revocation of the antidumping duty and countervailing duty orders would likely lead to continuation or recurrence of dumping and a countervailable subsidy, and notified the Commission of the magnitude of the margins and a net countervailable subsidy likely to prevail were the orders to be revoked.³

³ See Final Results of Expedited Sunset Review: Fresh and Chilled Atlantic Salmon from Norway, 65 FR 5584 (February 4, 2000); and Final Results of Expedited Sunset Review: Fresh and Chilled Atlantic Salmon from Norway, 65 FR 5954 (February 7, 2000).

On March 1, 2000, the Commission determined, pursuant to section 751(c) of the Act, that revocation of the antidumping duty and countervailing duty orders on fresh and chilled Atlantic salmon from Norway would be likely to lead to continuation or recurrence of material injury to an industry in the United States within a reasonably foreseeable time (see Fresh and Chilled Atlantic Salmon from Norway 65 FR 11082 (March 1, 2000) and USITC Publication 3282 (February 2000), Investigation Nos. 701-TA-302 (Review), and 731-TA-454 (Review).

Scope

The product covered by these orders is the species Atlantic salmon (Salmon Salar) marketed as specified herein; the order excludes all other species of salmon: Danube salmon, Chinook (also called “king” or “quinnat”), Coho (“silver”), Sockeye (“redfish” or “blueback”), Humpback (“pink”) and Chum (“dog”). Atlantic salmon is a whole or nearly-whole fish, typically (but not necessarily) marketed gutted, and cleaned, with the head on. The subject merchandise is typically packed in fresh-water ice (“chilled”). Excluded from the subject merchandise are fillets, steaks and other cuts of Atlantic salmon. Also excluded are frozen, canned, smoked or otherwise processed Atlantic salmon. Atlantic salmon was classifiable under item number 110.2045 of the Tariff Schedules of the United States Annotated (“TSUSA”). Prior to January 1, 1990, Atlantic salmon was provided for under item numbers 0302.0060.8 and 0302.12.0065.3 of the Harmonized Tariff Schedule of the United States (“HTSUS”) (56 FR 7678, February 25, 1991). Currently, it is provided for under HTSUS item number 0302.12.00.02.09. The subheadings above are provided for convenience and customs purposes. The written description remains dispositive.

Determination

As a result of the determinations by the Department and the Commission that revocation of the antidumping duty and countervailing duty orders would be likely to lead to continuation or recurrence of dumping and a countervailable subsidy, and material injury to an industry in the United States, pursuant to section 751(d)(2) of the Act, the Department hereby orders the continuation of the antidumping duty and countervailing duty orders on fresh and chilled Atlantic salmon from Norway. The Department will instruct the U.S. Customs Service to continue to collect antidumping duty and countervailing duty deposits at the rates in effect at the time of entry for all imports of subject merchandise. The effective date of continuation of these orders will be the date of publication in the Federal Register of this Notice of Continuation. Pursuant to section 751(c)(2) and 751 (c)(6) of the Act, the Department intends to initiate the next five-year review of these orders not later than February 2005.

Dated: March 7, 2000.
Robert S. LaRussa,
Assistant Secretary for Import Administration.

[FR Doc. 00-6091 Filed 3-10-00; 8:45 am]

BILLING CODE 3510-DS-P